DEPARTMENT OF TRANSPORTATION

Office of the Secretary

Aviation Proceedings, Agreements Filed the Week Ending May 30, 2008

The following Agreements were filed with the Department of Transportation under the Sections 412 and 414 of the Federal Aviation Act, as amended (49 U.S.C. 1382 and 1384) and procedures governing proceedings to enforce these provisions. Answers may be filed within 21 days after the filing of the application.

Docket Number: DOT-OST-2008-0177.

Date Filed: May 30, 2008.

Parties: Members of the International Air Transport Association.

Subject:

Mail Vote 568—Resolutions 074z, 081oo, 081rr, 081s, 085u, 081pp.

TC3 Japan, Korea-South West Pacific/Japan, Korea-South East Asia.

Passenger Amending Resolutions (Memo 1208).

Intended effective date: 13 June 2008.

Docket Number: DOT-OST-2008-0178.

Date Filed: May 30, 2008.

Parties: Members of the International Air Transport Association.

Subject: CSC/Mail Vote/001/2008 dated 5 May 2008.

Finally Adopted Resolution: 1601.

Intended effective date: 1 August 2008.

Renee V. Wright,
Program Manager, Docket Operations, Federal Register Liaison.

[FR Doc. E8-14489 Filed 6-25-08; 8:45 am]

BILLING CODE 4910-9X-P